DEPARTMENT OF COMMERCE

National Oceanic and Atmospheric Administration

RIN 0648-XP63

Marine Mammals; File Nos. 14210 and 782-1719

AGENCY: National Marine Fisheries Service (NMFS), National Oceanic and Atmospheric Administration (NOAA), Commerce.

ACTION: Notice; issuance of permit and permit amendment.

SUMMARY: Notice is hereby given that LGL Alaska Research Associates (Dr. Tamara McGuire, Principal Investigator), 1101 E. 76th Ave. Suite B, Anchorage, Alaska 99518 (File No. 14210), and the National Marine Mammal Laboratory (NMML), Alaska Fisheries Science Center (Dr. Phillip J. Clapham, Principal Investigator), 7600 Sand Point Way, NE., Seattle, Washington 98115 6349 (File No. 782 1719) have been issued a permit and a permit amendment, respectively, to conduct research on the Cook Inlet stock of beluga whales (Delphinapterus leucas).

ADDRESSES: The permits and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Kristy Beard or Amy Hapeman, (301)713-2289.

SUPPLEMENTARY INFORMATION: On February 10, 2009, notice was published in the Federal Register (74 FR 6578) that a request for a scientific research permit and permit amendment to take Cook Inlet beluga whales had been submitted by the above-named organizations. The requested permit and permit amendment have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 14210, issued to LGL Alaska Research Associates, authorizes harassment of up to 54 beluga whales three times annually in Cook Inlet, Alaska for vessel-based photo-identification annually between May and October. The permit expires on May 30, 2014.

Permit No. 782-1719-08 authorizes NMML to take species of cetaceans under NMFS jurisdiction during stock assessment activities throughout U.S. territorial waters and the high seas of the North Pacific Ocean, Southern Ocean, and Arctic Ocean. The permit authorizes Level B harassment during close approach for aerial surveys, vessel-based surveys, observations, and photo-identification and Level A harassment during biopsy sampling and attachment of scientific instruments. This permit amendment authorizes harassment of up to 585 Cook Inlet belugas 20 times annually during aerial surveys, and will be effective until the permit expires on June 30, 2009.

In compliance with the National Environmental Policy Act of 1969 (42 U.S.C. 4321 et seq.), an environmental assessment was prepared analyzing the effects of the permitted activities. After a Finding of No Significant Impact, the determination was made that it was not necessary to prepare an environmental impact statement.

Issuance of this permit and permit amendment, as required by the ESA, was based on a finding that such permits: (1) were applied for in good faith; (2) will not operate to the disadvantage of such endangered species; and (3) are consistent with the purposes and policies set forth in section 2 of the ESA.

Dated: June 1, 2009.
Tammy C. Adams,
Acting Chief, Permits, Conservation and Education Division, Office of Protected Resources, National Marine Fisheries Service.

[FR Doc. E9-13176 Filed 6-4-09; 8:45 am]

BILLING CODE 3510-22-S